DEPARTMENT OF COMMERCE

International Trade Administration

[Application No. 18-1A002]

Export Trade Certificate of Review

ACTION: Notice of Application for an amended Export Trade Certificate of Review for Alaska Groundfish Commission (“AGC”), Application Number 18-1A002.

SUMMARY: The Office of Trade and Economic Analysis (“OTEA”) of the International Trade Administration, Department of Commerce, received an application for an amended Export Trade Certificate of Review (“Certificate”). This notice summarizes the proposed application and requests comments relevant to whether the Certificate should be issued.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. Sections 4001-21) (“the Act”) authorizes the Secretary of Commerce to issue Export Trade Certificates of Review. A Certificate protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 18-1A002.”

Summary of the Application

Applicant: Alaska Groundfish Commission.

Contact: Duncan R. McIntosh, Mundt MacGregor L.L.P, (206) 319-1105.

Application No.: 18-1A002.

Date Deemed Submitted: September 24, 2019.

Proposed Amendment: AGC seeks to amend its Certificate as follows:

• Add following as Members of the Certificate within the meaning of section 325.2(1) of the Regulations (15 CFR 325.2(1)).

○ America's Finest Fishing, LLC, Kirkland, WA

○ Arica Vessel, LLC, Seattle, WA

○ Cape Horn Vessel, LLC, Seattle, WA

○ Fisherman's Finest International, Inc., Kirkland, WA

○ Fishermen's Finest, Inc., Kirkland, WA

○ Fishermen's Finest Holdings, LLC, Kirkland, WA

○ Glacier Fish Company LLC, Seattle, WA

○ Golden-Tech International, LLC, Bellevue, WA

○ Iquique Disc, Inc., Seattle, WA

○ North Pacific Fishing, LLC, Kirkland, WA

○ North Star Fishing Company LLC, Seattle, WA

○ North Star Vessel, LLC, Seattle, WA

○ Rebecca Irene Vessel, LLC, Seattle, WA

○ Unimak Vessel, LLC, Seattle, WA

○ United States Seafoods, LLC, Seattle, WA

○ US Fishing, LLC, Kirkland, WA

○ USS International, Inc., Seattle, WA

The proposed amendment would result in the following 24 Members:

1. AK Victory, Inc., Seattle, WA

2. Alaska Warrior, Inc., Seattle, WA

3. America's Finest Fishing, LLC, Kirkland, WA

4. Arica Vessel, LLC, Seattle, WA

5. Cape Horn Vessel, LLC, Seattle, WA

6. Fisherman's Finest International, Inc., Kirkland, WA

7. Fishermen's Finest, Inc., Kirkland, WA

8. Fishermen's Finest Holdings, LLC, Kirkland, WA

9. Glacier Fish Company LLC, Seattle, WA

10. Golden-Tech International, LLC, Bellevue, WA

11. Iquique Disc, Inc., Seattle, WA

12. M/V Savage, Inc., Seattle, WA

13. North Pacific Fishing, LLC, Kirkland, WA

14. North Star Fishing Company LLC, Seattle, WA

15. North Star Vessel, LLC, Seattle, WA

16. O'Hara Corporation, Rockland, ME

17. O'Hara DISC, Inc., Rockland, ME

18. Ocean Peace, Inc., Seattle, WA

19. Rebecca Irene Vessel, LLC, Seattle, WA

20. The Fishing Company of Alaska, Inc., Seattle, WA

21. Unimak Vessel, LLC, Seattle, WA

22. United States Seafoods, LLC, Seattle, WA

23. US Fishing, LLC, Kirkland, WA

24. USS International, Inc., Seattle, WA

Dated: October 2, 2019.
Joseph Flynn,
Director, Office of Trade and Economic Analysis, International Trade Administration, U.S. Department of Commerce.

[FR Doc. 2019-21813 Filed 10-4-19; 8:45 am]

BILLING CODE 3510-DR-P